DEPARTMENT OF HEALTH AND HUMAN SERVICES

Health Resources and Services Administration

Meeting of the Advisory Commission on Childhood Vaccines

AGENCY: Health Resources and Services Administration (HRSA), Department of Health and Human Services (HHS).

ACTION: Notice.

SUMMARY: In accordance with the Federal Advisory Committee Act, this notice announces that the Advisory Commission on Childhood Vaccines (ACCV) will hold public meetings for the 2024 calendar year (CY). Information about ACCV, agendas, and materials for these meetings can be found on the ACCV website at https://www.hrsa.gov/advisory-committees/vaccines/index.html.

DATES: ACCV meetings will be held on March 7, 2024, 10:00 a.m.-4:00 p.m. Eastern Time (ET); March 8, 2024, 10:00 a.m.-4:00 p.m. ET; September 5, 2024, 10:00 a.m.-4:00 p.m. ET; September 6, 2024, 10:00 a.m.-4:00 p.m. ET.

ADDRESSES: Meetings may be held in-person or by Zoom webinar. For updates on how the meeting will be held, visit the ACCV website meeting page included below 30 business days before the date of the meeting, where instructions for joining meetings either in-person or remotely will be posted. In-person ACCV meetings will be held at 5600 Fishers Lane, Rockville, MD 20857. For meeting information updates, go to the ACCV website meeting page at https://www.hrsa.gov/advisory-committees/vaccines/meetings.html.

FOR FURTHER INFORMATION CONTACT: Pita Gomez, Principal Staff Liaison, Division of Injury Compensation Programs, HRSA, 5600 Fishers Lane, 8W-25A, Rockville, MD 20857; 800-338-2382; or ACCV@hrsa.gov.

SUPPLEMENTARY INFORMATION: ACCV provides advice and recommendations to the Secretary of HHS (Secretary) on policy, program development, and other issues related to implementation of the National Vaccine Injury Compensation Program and concerning other matters as described under section 2119 of the Public Health Service Act (42 U.S.C. 300aa-19).

Since priorities dictate meeting times, be advised that start times, end times, and agenda items are subject to change. For CY 2024 meetings, agenda items may include, but are not limited to: updates from the Division of Injury Compensation Programs, Department of Justice, Office of Infectious Disease and HIV/AIDS Policy (HHS), Immunization Safety Office (Centers for Disease Control and Prevention), National Institute of Allergy and Infectious Diseases (National Institutes of Health) and Center for Biologics Evaluation and Research (Food and Drug Administration). Refer to the ACCV website listed above for all current and updated information concerning the CY 2024 ACCV meetings, including draft agendas and meeting materials that will be posted 5 calendar days before the meeting.

These meetings are open to the public. Meetings held by Zoom webinar will require registration. Registration details will be provided on our ACCV website at https://www.hrsa.gov/advisory-committees/vaccines/meetings.html. All registrants will be asked to provide their name, affiliation, and email address. After registration, individuals will receive personalized Zoom information via email.

Members of the public will have the opportunity to provide comments. Public participants may submit written statements in advance of the scheduled meeting(s). Oral comments will be honored in the order they are requested and may be limited as time allows. Requests to submit a written statement or make oral comments to ACCV should be sent to Pita Gomez using the contact information listed above at least 5 business days before the meeting date(s).

Individuals who need special assistance or another reasonable accommodation should notify Pita Gomez using the contact information listed above at least 10 business days before the meeting(s) they wish to attend. Since all in-person meetings will occur in a federal government building, attendees must go through a security check to enter the building. Non-U.S. Citizen attendees must notify HRSA of their planned attendance at least 20 business days prior to the meeting to facilitate their entry into the building. All attendees are required to present government-issued identification prior to entry.

Maria G. Button,
Director, Executive Secretariat.

[FR Doc. 2023-22584 Filed 10-11-23; 8:45 am]

BILLING CODE 4165-15-P